DEPARTMENT OF VETERANS AFFAIRS

Change in Burden of Proof

AGENCY: Department of Veterans Affairs.

ACTION: Notice with request for comments.

SUMMARY: This notice announces that the burden of proof for disciplinary and major adverse actions imposed against certain employees of the Department of Veterans Affairs has been changed from preponderance of evidence to substantial evidence.

DATES: Comments must be received on or before September 6, 2018. The proposed effective date of these amendments is 30 days after publication of this notice.

ADDRESSES: Written comments may be directed to: Elizabeth A. Hill, Team Lead, Employee Relations & Performance Management Service, Office of Human Resources Management, Department of Veterans Affairs, 810 Vermont Avenue NW, Washington, DC 20420. Comments may also be faxed to (202) 495-5200.

FOR FURTHER INFORMATION CONTACT: Elizabeth A. Hill, Team Lead, (706) 504-3988, or by email to Elizabeth.Hill@va.gov.

SUPPLEMENTARY INFORMATION: Section 203 of the Department of Veterans Affairs Health Care Personnel Act of 1991 (Pub. L. 102-40), dated May 7, 1991, revised the disciplinary grievance and appeal procedures for employees appointed under 38 United States Code (U.S.C.) 7401(1). 38 U.S.C. 7461(e) requires that whenever the Secretary proposes to prescribe regulations under 38 U.S.C., Part V, Chapter 74, Subchapter V, “the Secretary shall publish the proposed regulations in the Federal Register for notice-and-comment not less than 30 days before the day on which they take effect.”

Signing Authority

The Secretary of Veterans Affairs, or designee, approved this document and authorized the undersigned to sign and submit the document to the Office of the Federal Register for publication electronically as an official document of the Department of Veterans Affairs. Jacquelyn Hayes-Byrd, Acting Chief of Staff, Department of Veterans Affairs, approved this document on July 30, 2018, for publication.

Dated: July 30, 2018.
Luvenia Potts,
Program Specialist, Office of Regulation Policy & Management, Office of the Secretary, Department of Veterans Affairs.

[FR Doc. 2018-16808 Filed 8-6-18; 8:45 am]

BILLING CODE 8320-01-P